DEPARTMENT OF AGRICULTURE

Natural Resources Conservation Service

[Docket No. NRCS-2015-0004]

Notice of Availability (NOA) of the Finding of No Significant Impact (FONSI) and Final Environmental Assessment (EA) for the Voluntary Public Access and Habitat Incentive Program (VPA-HIP)

AGENCY: Natural Resources Conservation Service.

ACTION: Notice of availability.

SUMMARY: On April 27, 2015, the Natural Resources Conservation Service (NRCS) published an NOA in the Federal Register announcing the availability of a draft EA for VPA-HIP and requesting public comment. The draft EA was available for a 30-day public comment period that ended May 27, 2015. The draft EA was prepared to meet the requirements of the National Environmental Policy Act (NEPA) of 1969 and NRCS implementing regulations. Brief comments were received from one State and those comments expressed no concerns about the analysis or the effects of the program. NRCS has determined that implementing VPA-HIP is not a major Federal action significantly affecting the quality of the human environment within the context of NEPA and, therefore, an Environmental Impact Statement will not be prepared.

FOR FURTHER INFORMATION CONTACT: A copy of the final Programmatic EA and FONSI can be accessed on the Internet by clicking on the appropriate link at www.nrcs.usda.gov/ea. Single copies of the FONSI and Programmatic EA or additional information may also be obtained by contacting Ms. Andrée DuVarney, National Environmental Coordinator, USDA-NRCS, Ecological Sciences Division, Room 6158-S, P.O. Box 2890, Washington, DC 20013-2890 or by sending a request via email to andree.duvarney@wdc.usda.gov.

SUPPLEMENTARY INFORMATION: Background: VPA-HIP is a competitive grants program that is available to State and Tribal governments. The program is authorized under the Food, Conservation, and Energy Act of 2008, as amended (2008 Farm Bill, as amended) (16 U.S.C. 3839bb-5). Regulations at 7 CFR part 1455 govern implementation of VPA-HIP. The primary objective of VPA-HIP is to support State and Tribal government programs that encourage owners and operators of privately held farm, ranch, and forest land to voluntarily make that land available for access by the public for hunting, fishing, and other wildlife-dependent recreation. Grant recipients may also use VPA-HIP funds to improve habitat on enrolled public access program lands.

NRCS expects most actions carried out with VPA-HIP funds to follow NRCS conservation practice standards and fall within existing categorical exclusions. Although VPA-HIP applicants that agree to follow NRCS conservation practice standards will receive preference for acceptance and funding, there is no requirement they do so. It is also possible some actions may not fall within a categorical exclusion. Therefore, NRCS decided to prepare a Programmatic EA to review the effects of activities that are likely to occur with VPA-HIP grants.

Proposed Action: The Proposed Action is to award VPA-HIP grants as authorized by the 2008 Farm Bill, as amended. Under this alternative, NRCS will provide an opportunity for State and Tribal governments to apply for grants to encourage owners and operators of privately held farm, ranch, and forest land to voluntarily make that land available for access by the public for hunting, fishing, and other wildlife-dependent recreation, and to improve and manage fish and wildlife habitat on their land under programs administered by State or Tribal governments. Grants will be awarded through a competitive process.

Alternatives: The Programmatic EA evaluates the environmental impacts of the Proposed Action and the no-action alternative. The Proposed Action is the agency's preferred alternative, and it meets the purpose of and need for the project with only minor, short-term adverse impacts to the environment anticipated. The no-action alternative does not meet the purpose and need for the action, and results in more adverse impacts to the environment than the preferred alternative.

Scoping: In developing the Programmatic EA, NRCS conducted internal scoping with various agency discipline experts, and used experience gained from previous VPA-HIP grants and associated EAs. Potential adverse impacts identified through the scoping process include localized, temporary, minor increases in soil erosion, sediment transport, and particulate matter from ground-disturbing activities and the use of agricultural equipment during the installation of conservation practices. In the longer term, there will be habitat improvements, and increased recreational and economic benefits. NRCS solicited comments from the public for 30 days on its analysis and received only one comment that expressed no concerns.

Other Environmental Review and Coordination Requirements: VPA-HIP grant recipients will conduct site-specific evaluations of lands where habitat improvement projects are planned to address project compliance with applicable laws and regulations, including NEPA, Clean Water Act, Endangered Species Act, and the National Historic Preservation Act. NRCS will conduct or oversee any required consultation with the VPA-HIP grant recipients in accordance with applicable regulations.

Signed this 22nd day of July 2015, in Washington, DC.
Jason A. Weller,
Chief, Natural Resources Conservation Service.

[FR Doc. 2015-19036 Filed 8-3-15; 8:45 am]

BILLING CODE 3410-16-P